DEPARTMENT OF THE INTERIOR

National Park Service

[NPS-WASO-NAGPRA-NPS0029473; PPWOCRADN0-PCU00RP14.R50000]

Notice of Inventory Completion: U.S. Department of the Interior, National Park Service, Gulf Islands National Seashore, Gulf Breeze, FL

AGENCY: National Park Service, Interior.

ACTION: Notice.

SUMMARY: The U.S. Department of the Interior, National Park Service, Gulf Islands National Seashore has completed an inventory of human remains and associated funerary objects in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to Gulf Islands National Seashore. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to Gulf Islands National Seashore at the address in this notice by February 27, 2020.

ADDRESSES: Daniel Brown, Superintendent, Gulf Islands National Seashore, 1801 Gulf Breeze Parkway, Gulf Breeze, FL 32563-5000, (850) 934-2613, email daniel_r_brown@nps.gov.

SUPPLEMENTARY INFORMATION: Notice is here given in accordance with the Native American Graves Protection and Repatriation Act (NAGPRA), 25 U.S.C. 3003, of the completion of an inventory of human remains and associated funerary objects under the control of the U.S. Department of the Interior, National Park Service, Gulf Islands National Seashore, Gulf Breeze, FL. The human remains and associated funerary object were removed from sites in Santa Rosa County, FL.

This notice is published as part of the National Park Service's administrative responsibilities under NAGPRA, 25 U.S.C. 3003(d)(3) and 43 CFR 10.11(d). The determinations in this notice are the sole responsibility of the Superintendent, Gulf Islands National Seashore.

Consultation

A detailed assessment of the human remains was made by Gulf Islands National Seashore professional staff in consultation with representatives of the Seminole Tribe of Florida (previously listed as the Seminole Tribe of Florida (Dania, Big Cypress, Brighton, Hollywood & Tampa Reservations)) and The Seminole Nation of Oklahoma. The Miccosukee Tribe of Indians was invited to consult but did not participate.

History and Description of the Remains

In 1973, human remains representing, at minimum, one individual were removed from the Boy Scout Water site in Santa Rosa County, FL during archeological survey. No known individuals were identified. No associated funerary objects are present.

Between 1973 and 1979, human remains representing, at minimum, one individual were removed from the First Gulf Breeze site in Santa Rosa County, FL, during archeological survey and testing. No known individuals were identified. The one associated funerary object is a vessel fragment.

In 1980, human remains representing, at minimum, one individual were removed from the Big Heart West site in Santa Rosa County, FL during archeological survey and testing. No known individuals were identified. No associated funerary objects are present.

In 1986, human remains representing, at minimum, two individuals were removed from the base of an overturned tree by a park visitor in the Naval Live Oaks area of Gulf Islands National Seashore in Santa Rosa County, FL. No known individuals were identified. No associated funerary objects are present.

In 1986, human remains representing, at minimum, one individual were removed from the Third Gulf Breeze site in Santa Rosa County, FL, during construction monitoring. No known individuals were identified. No associated funerary objects are present.

Determinations Made by the U.S. Department of the Interior, National Park Service, Gulf Islands National Seashore

Officials of the U.S. Department of the Interior, National Park Service, Gulf Islands National Seashore have determined that:

• Pursuant to 25 U.S.C. 3001(9), the human remains described in this notice are Native American based on removal from known Native American sites and osteological analyses.

• Pursuant to 25 U.S.C. 3001(9), the human remains described in this notice represent the physical remains of six individuals of Native American ancestry.

• Pursuant to 25 U.S.C. 3001(3)(A), the one object described in this notice is reasonably believed to have been placed with or near individual human remains at the time of death or later as part of the death rite or ceremony. The National Park Service intends to convey the associated funerary object to the Tribes pursuant to 54 U.S.C. 102503(g) through (i) and 54 U.S.C. 102504.

• Pursuant to 25 U.S.C. 3001(2), a relationship of shared group identity cannot be reasonably traced between the Native American human remains and associated funerary object and any present-day Indian Tribe.

• According to final judgments of the Indian Claims Commission or the Court of Federal Claims, the land from which the Native American human remains and associated funerary object were removed is the aboriginal land of the Miccosukee Tribe of Indians; Seminole Tribe of Florida (previously listed as the Seminole Tribe of Florida (Dania, Big Cypress, Brighton, Hollywood & Tampa Reservations)); and The Seminole Nation of Oklahoma.

• Treaties, Acts of Congress, or Executive Orders, indicate that the land from which the Native American human remains and associated funerary object were removed is the aboriginal land of the Miccosukee Tribe of Indians; Seminole Tribe of Florida (previously listed as the Seminole Tribe of Florida (Dania, Big Cypress, Brighton, Hollywood & Tampa Reservations)); and The Seminole Nation of Oklahoma.

• Pursuant to 43 CFR 10.11(c)(1), the disposition of the human remains and associated funerary object may be to the Miccosukee Tribe of Indians; Seminole Tribe of Florida (previously listed as the Seminole Tribe of Florida (Dania, Big Cypress, Brighton, Hollywood & Tampa Reservations)); and The Seminole Nation of Oklahoma.

Additional Requestors and Disposition

Representatives of any Indian Tribe or Native Hawaiian organization not identified in this notice that wish to request transfer of control of these human remains and associated funerary object should submit a written request with information in support of the request to Daniel Brown, Superintendent, Gulf Islands National Seashore, 1801 Gulf Breeze Parkway, Gulf Breeze, FL 32563-5000, (850) 934-2613, email daniel_r_brown@nps.gov, by February 27, 2020. After that date, if no additional requestors have come forward, transfer of control of the human remains and associated funerary object to the Miccosukee Tribe of Indians; Seminole Tribe of Florida (previously listed as the Seminole Tribe of Florida (Dania, Big Cypress, Brighton, Hollywood & Tampa Reservations)); and The Seminole Nation of Oklahoma may proceed.

The U.S. Department of the Interior, National Park Service, Gulf Islands National Seashore is responsible for notifying the Miccosukee Tribe of Indians; Seminole Tribe of Florida (previously listed as the Seminole Tribe of Florida (Dania, Big Cypress, Brighton, Hollywood & Tampa Reservations)); and The Seminole Nation of Oklahoma that this notice has been published.

Dated: December 6, 2019.
Melanie O'Brien,
Manager, National NAGPRA Program.

[FR Doc. 2020-01357 Filed 1-27-20; 8:45 am]

BILLING CODE 4312-52-P